DEPARTMENT OF JUSTICE

Notice of Lodging of Consent Decree Under the Comprehensive Environmental Response, Compensation, and Liability Act (CERCLA)

Notice is hereby given that on September 27, 2000 a proposed Consent Decree (“Decree”) in United States v. AAI Corporation, et al., Civil Action No. 00-WM-1909 was lodged with the United States District Court for the District of Colorado. The United States filed this action pursuant to section 107(a) of the Comprehensive Environmental Response, Compensation, and Liability Act (CERCLA), 42 U.S.C. 9607(a), to recover response costs incurred by the United States Environmental Protection Agency (“EPA”) in conducting response actions taken at or in connection with the release or threatened release of hazardous substances at or from the RAMP Industries Site located at 1127 and 1107 West 46th Avenue, and 1031 West 46th Avenue, Denver, Colorado (the “Site”).

The Decree provides for the reimbursement to EPA of $4,753,149.05 by 316 persons (“generators”) within the class of persons defined by section 107(a)(3) of CERCLA, 42 U.S.C. 9607(a)(3) on a volumetric, pro rata basis. A total of $3,179,615.36 will be paid by 274 non-federal settling parties and $1,573,533.69 will be paid by 42 settling federal agencies. Each of the settling parties' potential liability at the Site under sections 106 or 107 of CERCLA, 42 U.S.C. 9606 and 9607, and section 7003 of RCRA, 42 U.S.C. 6973, is resolved subject to statutory reopeners.

The Department of Justice will receive for a period of thirty (30) days from the date of this publication comments relating to Decree. Comments should be addressed to the Assistant Attorney General, Environment and Natural Resources Division, P.O. Box 7611, U.S. Department of Justice, Washington, DC 20044-7611, and should refer to United States v. AAI Corp. et al, D.J. Ref. 90-11-2-1290/2. If requested, the United States will provide an opportunity for a public meeting on the proposed settlement in Denver, Colorado prior to the final entry of the Decree.

The Decree may be examined at the offices of the U.S. EPA Region VIII, 999 18th Street, Suite 500 South Tower, Denver, Colorado and at the Office of the United States Attorney, District of Colorado, 1961 Stout Street, 11th Floor, Denver, CO 80294. A copy of the proposed consent decree may also be obtained by mail from the Consent Decree Library, P.O. Box 7611, U.S. Department of Justice, Washington, DC 20044-7611 either with or without the multiple signature pages and attachments. In requesting a copy of the proposed consent decree, please enclose a check payable to the Consent Decree Library for $155.00 for a complete copy with all signature pages and attachments or $4.75 for a copy of the decree without signature pages and attachments (25 cents per page reproduction cost).

Walker Smith,
Deputy Chief, Environmental Enforcement Section, Environment and Natural Resources Division.

[FR Doc. 00-25716 Filed 10-5-00; 8:45 am]

BILLING CODE 4410-15-M